DEPARTMENT OF THE TREASURY

Submission for OMB Review; Comment Request

April 26, 2016.

The Department of the Treasury will submit the following information collection request to the Office of Management and Budget (OMB) for review and clearance in accordance with the Paperwork Reduction Act of 1995, Public Law 104-13, on or after the date of publication of this notice.

DATES: Comments should be received on or before May 31, 2016 to be assured of consideration.

ADDRESSES: Send comments regarding the burden estimates, or any other aspect of the information collection, including suggestions for reducing the burden, to (1) Office of Information and Regulatory Affairs, Office of Management and Budget, Attention: Desk Officer for Treasury, New Executive Office Building, Room 10235, Washington, DC 20503, or email at OIRA_Submission@OMB.EOP.gov and (2) Treasury PRA Clearance Officer, 1750 Pennsylvania Ave. NW., Suite 8117, Washington, DC 20220, or email at PRA@treasury.gov.

FOR FURTHER INFORMATION CONTACT: Copies of the submission may be obtained by emailing PRA@treasury.gov, calling (202) 622-1295, or viewing the entire information collection request at www.reginfo.gov.

Departmental Offices

OMB Control Number: 1505-0167.

Type of Review: Extension of a currently approved collection.

Title: Persons Providing Remittance Forwarding Services to Cuba.

Abstract: The information is required of persons subject to the jurisdiction of the United States who make remittances to persons in Cuba pursuant to the general licenses in section 515.570 of the Cuban Assets Control Regulations, 31 CFR part 515. The information will be used by the Office of Foreign Assets Control to monitor compliance with regulations governing unlimited family and family inherited remittances, donative remittances, unlimited remittances to religious organizations, remittances to students in Cuba pursuant to an educational license, limited emigration remittances, and periodic remittances from blocked accounts.

Affected Public: Individuals or households; businesses or non-profits.

Estimated Total Annual Burden Hours: 116,667.

Brenda Simms,
Treasury PRA Clearance Officer.

[FR Doc. 2016-10086 Filed 4-28-16; 8:45 am]

BILLING CODE 4810-25-P